DEPARTMENT OF DEFENSE

Office of the Secretary

Availability of the Fiscal Year 2010 Inventory of Contracts for Services

AGENCY: Department of Defense (DoD).

ACTION: Notice of availability.

DATES: Inventory to be made publicly available by October 17, 2011.

ADDRESSES: Send written comments and suggestions concerning this inventory to: Jeffrey Grover, Senior Procurement Analyst, OUSD (AT&L), DPAP/CPIC, 3060 Defense Pentagon, Washington, DC 20301-3060, or e-mail Jeffrey.Grover@osd.mil

FOR FURTHER INFORMATION CONTACT: Jeffrey Grover, telephone 703-697-9352.

SUPPLEMENTARY INFORMATION: In accordance with section 2330a of title 10 United States Code, as amended by section 807 of the National Defense Authorization Act for Fiscal Year 2008, the Office of the Deputy Director, Defense Procurement and Acquisition Policy, Contract Policy and International Contracting (DPAP/CPIC) will make available to the public the annual inventory of contracts for services. The inventory will be posted to the Defense Procurement and Acquisition Policy Web site at http://www.acq.osd.mil/dpap/cpic/cp/acquisition_of_services_policy.html.

Ynette R. Shelkin,
Editor, Defense Acquisition Regulations System.

[FR Doc. 2011-23631 Filed 9-14-11; 8:45 am]

BILLING CODE 5001-08-P